DEPARTMENT OF COMMERCE

National Oceanic and Atmospheric Administration

[RTID 0648-XB027]

Mid-Atlantic Fishery Management Council (MAFMC); Public Meetings

AGENCY: National Marine Fisheries Service (NMFS), National Oceanic and Atmospheric Administration (NOAA), Commerce.

ACTION: Notice; public meeting.

SUMMARY: The Science and Statistical Committee (SSC) of the Mid-Atlantic Fishery Management Council (Council) will hold a meeting.

DATES: The meeting will be held on Tuesday, May 11, 2021, from 10 a.m. to 5:30 p.m. and Wednesday, May 12, 2021, from 9 a.m. to 12:30 p.m. See SUPPLEMENTARY INFORMATION for agenda details.

ADDRESSES: The meeting will take place over webinar using the Webex platform with a telephone-only connection option. Details on how to connect to the webinar by computer and by telephone will be available at: http://www.mafmc.org/ssc.

Council address: Mid-Atlantic Fishery Management Council, 800 N. State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: The purpose of this meeting is to review updated analysis and work products developed by the Council's Illex Quota Work Group, tasked with developing approaches for possible in-year quota adjustments and help provide the basis for the research track assessment scheduled for later in 2021. Utilizing the information provided by the Illex Quota Work Group and other relevant data and information, the SSC will review and possibly modify the 2021 Illex acceptable biological catch (ABC) and make 2022 ABC recommendations for Illex fishery. The SSC will also review the most recent survey and fishery data and the previously recommended 2022 ABC for butterfish, longfin squid, surfclam, and ocean quahogs. The SSC will also continue discussions on ways to operationalize the Mid-Atlantic State of the Ecosystem report, including the formation of an SSC sub-group, and provide input on the 2026 research track stock assessment schedule. In addition, the SSC may take up any other business as necessary.

A detailed agenda and background documents will be made available on the Council's website (www.mafmc.org) prior to the meeting.

Special Accommodations

The meeting is physically accessible to people with disabilities. Requests for sign language interpretation or other auxiliary aid should be directed to Kathy Collins, (302) 526-5253, at least 5 days prior to the meeting date.

Authority: 16 U.S.C. 1801 et seq.

Dated: April 19, 2021.
Tracey L. Thompson,
Acting Deputy Director, Office of Sustainable Fisheries, National Marine Fisheries Service.

[FR Doc. 2021-08440 Filed 4-22-21; 8:45 am]

BILLING CODE 3510-22-P